DEPARTMENT OF THE TREASURY

Internal Revenue Service

Members of Senior Executive Service Performance Review Boards

AGENCY: Internal Revenue Service (IRS), Department of the Treasury (Treasury).

ACTION: Notice.

SUMMARY: The purpose of this notice is to publish the names of those IRS employees who will serve as members on IRS's Fiscal Year 2014 Senior Executive Service (SES) Performance Review Boards.

DATES: This notice is effective September 2, 2014.

FOR FURTHER INFORMATION CONTACT: Daniela Petrilli, IRS, 1111 Constitution Avenue NW., Room 7314, Washington, DC 20224, (202) 317-3826.

SUPPLEMENTARY INFORMATION: Pursuant to 5 U.S.C. 4314(c)(4), this notice announces the appointment of members to the IRS's SES Performance Review Boards. The names and titles of the executives serving on the boards are as follows:

John M. Dalrymple, Deputy Commissioner for Services and Enforcement (DCSE)

Margaret A. Sherry, Deputy Commissioner for Operations Support (DCOS)

David P. Alito, Deputy Commissioner, Wage and Investment (W&I)

Sergio E. Arellano, Director, International Business Compliance, Large Business and International (LB&I)

Thomas A. Brandt, Chief Risk Officer and Senior Advisor to the Commissioner, Office of the Commissioner (COMM)

L'Tanya D. Brooks, Director, Media and Publications (W&I)

John S. Burns, Chief, Agency-Wide Shared Services (AWSS)

Carol A. Campbell, Director, Return Preparer Office (DCSE)

Robin L. Canady, Chief Financial Officer, Chief Financial Office (CFO)

Daniel B. Chaddock, Associate Chief Information Officer (CIO), Enterprise Services, Information Technology (IT)

Robert Choi, Director, Employee Plans, Tax Exempt and Government Entities (TEGE)

Cheryl P. Claybough, Industry Director, Communications, Technology and Media (LB&I)

James P. Clifford, Director, Accounts Management (W&I)

Sallie T. Cooper, Director Field Operations, Southern Area, Criminal Investigation (CI)

Kenneth C. Corbin, Deputy Director, Submission Processing (W&I)

Monica H. Davy, Executive Director, Office of Equity, Diversity and Inclusion (COMM)

Nanette M. Downing, Assistant Deputy Commissioner Government Entities/Shared Services (TEGE)

John D. Fort, Director Field Operations, Northern Area (CI)

Karen L. Freeman, Associate CIO, Enterprise Operations (IT)

Carl T. Froehlich, Associate CIO, Strategy and Planning (IT)

Julieta Garcia, Director, Customer Assistance, Relationships and Education (W&I)

Silvana G. Garza, Deputy CIO for Operations (IT)

Linda K. Gilpen, Director, Submission Processing (IT)

Warren R. Gove, Director, Operations (IT)

Dietra D. Grant, Director, Stakeholder Partnership, Education and Communication (W&I)

Darren J. Guillot, Director, Enterprise Collection Strategy, Small Business/Self-Employed (SB/SE)

Daniel S. Hamilton, Director, Enterprise Systems Testing (IT)

Donna C. Hansberry, Deputy Commissioner, Tax Exempt and Government Entities (TEGE)

Karen L. Hawkins, Director, Office of Professional Responsibility/Standards of Tax Practice (DCSE)

Mary R. Hernandez, Deputy Associate CIO, Enterprise Operations (IT)

Shenita L. Hicks, Director, Examination (SB/SE)

Debra S. Holland, Commissioner, Wage and Investment (W&I)

David W. Horton, Director, International Individual Compliance (LB&I)

Mary J. Howard, Director, Privacy, Governmental Liaison and Disclosure (PGLD)

Robert L. Hunt, Director, Collection (SB/SE)

Sharon C. James, Associate CIO, Cybersecurity (IT)

Robin DelRey Jenkins, Director, Office of Business Modernization (SB/SE)

Michael D. Julianelle, Deputy Chief Appeals, Appeals (AP)

Gregory E. Kane, Deputy Chief Financial Officer (CFO)

Susan L. Latham, Director, Shared Support (LB&I)

Robert M. Leahy Jr., Director, Infrastructure and Portal Program Management Office (IT)

Terry Lemons, Chief, Communications and Liaison (C&L)

Sunita B. Lough, Commissioner, Tax Exempt and Government Entities (TEGE)

Deborah Lucas-Trumbull, Director, Demand Management and Project Governance (IT)

William H. Maglin, Associate CFO for Financial Management (CFO)

Heather C. Maloy, Commissioner, Large Business and International (LB&I)

Paul J. Mamo, Director, Submission Processing (W&I)

Stephen L. Manning, Deputy CIO for Strategy/Modernization (IT)

Rosemary D. Marcuss, Director, Research, Analysis and Statistics (RAS)

Rajive K. Mathur, Director, Online Services (OLS)

Ivy S. McChesney, Director, Customer Accounts Services (W&I)

Gretchen R. McCoy, Associate CIO, Applications Development (IT)

Kevin Q. McIver, Director, Real Estate and Facilities Management (AWSS)

Terence V. Milholland, Chief Technology Officer/Chief Information Officer (IT)

Mary Beth Murphy, Deputy Commissioner, Small Business/Self-Employed (SB/SE)

Douglas W. O'Donnell, Assistant Deputy Commissioner (International) (LB&I)

Nina E. Olson, National Taxpayer Advocate, Taxpayer Advocate Service (TAS)

Jodell L. Patterson, Director, Return Integrity and Correspondence Services (W&I)

Verlinda F. Paul, Director, Office of Program Coordination and Integration (W&I)

Robert A. Ragano, Director, Corporate Data (IT)

Daniel T. Riordan, IRS Human Capital Officer, Human Capital Office (HCO)

Tamara L. Ripperda, Director, Exempt Organizations (TEGE)

Kathy J. Robbins, Industry Director, Natural Resources and Construction (LB&I)

Karen M. Schiller, Commissioner, Small Business/Self-Employed (SB/SE)

Jonathan D. Schwartz, Deputy Director, Accounts Management (W&I)

Rene S. Schwartzman, Business Modernization Executive (W&I)

Rosemary Sereti, Industry Director, Financial Services (LB&I)

Verline A. Shepherd, Associate CIO, User and Network Services (IT)

Nancy A. Sieger, Deputy Associate CIO, Applications Development (IT)

Dean R. Silverman, Senior Advisor to the Commissioner (Compliance Analytics Initiatives) (COMM)

Sudhanshu K. Sinha, Director, Enterprise Architecture (IT)

Paul A. Sobert, Director, Compliance (IT)

Marla L. Somerville, Associate CIO, Affordable Care Act—Program Management Office (IT)

Carolyn A. Tavenner, Director, Affordable Care Act, Affordable Care Act Office (ACA)

Shawn S. Tiller, Deputy Chief Criminal Investigation (CI)

David P. VanDivier, Senior Advisor to the Chief of Staff (COMM)

Kathryn D. Vaughan, Director, Campus Compliance Services (SB/SE)

Peter C. Wade, Director, Field Assistance (W&I)

Kathleen E. Walters, Deputy IRS Human Capital Officer (HCO)

Richard Weber, Chief, Criminal Investigation (CI)

Stephen A. Whitlock, Director, Whistleblower Office (DCSE)

Kirsten B. Wielobob, Chief Appeals (AP)

This document does not meet the Treasury's criteria for significant regulations.

John M. Dalrymple,
Deputy Commissioner for Services and Enforcement, Internal Revenue Service.

[FR Doc. 2014-19981 Filed 8-21-14; 8:45 am]

BILLING CODE 4830-01-P